DEPARTMENT OF ENERGY

Federal Energy Regulatory Commission

[Docket No. RP00-340-000]

Koch Gateway Pipeline Company; Notice of Technical Conference

August 24, 2000.

On June 15, 2000, Koch Gateway Pipeline Company (Koch), filed in compliance with Order No. 637. Several parties have protested various aspects of Koch's filing. Take notice that a technical conference to discuss the various issues raised by Koch's filing will be held Wednesday, September 20, 2000, at 9:00 am, in a room to be designated at the offices of the Federal Energy Regulatory Commission, 888 First Street, NE, Washington, D.C. 20426. This technical conference may extend to Thursday, September 21, 2000. Parties protesting aspects of Koch's filing should be prepared to discuss alternatives.

All interested parties and Staff are permitted to attend.

Linwood A. Watson, Jr.,
Acting Secretary.

[FR Doc. 00-22111 Filed 8-29-00; 8:45 am]

BILLING CODE 6717-01-M